DEPARTMENT OF COMMERCE

National Oceanic and Atmospheric Administration

[RTID 0648-XB655]

NOAA Fisheries Draft Climate Science Regional Action Plans (2022-2024)

AGENCY: National Marine Fisheries Service (NMFS), National Oceanic and Atmospheric Administration (NOAA), Commerce.

ACTION: Notice of availability of the NOAA Fisheries Draft Climate Science Regional Action Plans (2022-2024); request for comments.

SUMMARY: We, NMFS, announce the availability of Draft Climate Science Regional Action Plans designed to increase the production, delivery and use of climate-related information to fulfill our stewardship mission for the Nation's valuable living marine resources. We are soliciting review and comment from the public and all interested parties, and will consider all substantive comments received during the review period before publishing final Plans. Comments are invited on: (a) The clarity of the goals and activities in the draft Plans, (b) how to strengthen the draft Plans and activities; (c) what additional goals and activities need to be addressed. Comments submitted in response to this notice will be provided to the Regional Action Plan Teams for consideration in development of the final Plans.

DATES: Comments on the Draft Climate Science Regional Action Plans must be received by June 2, 2022.

ADDRESSES: To review the draft regional plans, visit: https://www.fisheries.noaa.gov/national/climate/climate-science-strategy-regional-action-plans.

Comments may be submitted on the NOAA Fisheries Draft Climate Science Regional Action Plans, identified by NOAA-NMFS-2022-0007 by any of the following methods:

• Electronic Submissions: Submit all electronic public comments via the Federal eRulemaking Portal. Go to www.regulations.gov and enter NOAA-NMFS-2022-0007 in the Search box. Click the “Comment” icon and complete the required fields, and enter or attach your comments.

• Mail: Submit written comments to Roger Griffis, NMFS/Office of Science and Technology, 1315 East-West Highway, Silver Spring, MD 20910. Include on the envelope the following identifier “Draft Climate Science Regional Action Plans Comments.”

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The NOAA Fisheries Draft Climate Science Regional Action Plans are available online at https://www.fisheries.noaa.gov/national/climate/climate-science-strategy-regional-action-plans or upon request from the NMFS Office of Science and Technology.

FOR FURTHER INFORMATION CONTACT: Roger Griffis, (301)-980-4694, NMFS.RAPcomments@noaa.gov.

SUPPLEMENTARY INFORMATION:

Background

Changing climate and ocean conditions are affecting the Nation's valuable living marine resources and the many people, businesses and communities that depend on them. From warming oceans and rising sea levels, to ocean acidification and changes in the distribution and abundance of marine resources, these impacts are expected to increase with continued changes in the planet's climate and ocean systems. There is much at risk—for example fishing and seafood industries support over $240 billion dollars in economic activity and 1.7 million jobs every year. There is growing demand from decision-makers for better information on what's changing, what's vulnerable and how to respond. NMFS is working to provide decision-makers with the information they need to reduce impacts and increase resilience of marine resources and the people that depend on them in a changing climate.

The NOAA Fisheries Climate Science Strategy, released in August of 2015 and available at https://www.fisheries.noaa.gov/topic/climate-change, responded to the growing demand from fisheries and other decision makers for better information about what's changing, what's at risk and how to respond to changing climate and ocean conditions. The Climate Science Strategy identified seven key objectives to produce and deliver the climate-related information to meet decision-maker needs and fulfill NMFS mandates in a changing climate. It also provided a national framework designed to be customized and implemented in each region through Climate Science Regional Action Plans.

In 2016 NMFS created the first Climate Science Regional Action Plans (available at: https://www.fisheries.noaa.gov/national/climate/climate-science-strategy-regional-action-plans) in collaboration with Fishery Management Councils and other partners to identify the strengths, weaknesses, priorities, and specific actions to implement the Climate Science Strategy in the Northeast, Southeast, Pacific Islands, West Coast and Alaska Regions. While some impacts of changing climate and oceans on living marine resources are shared across regions, each region has a unique combination of climate-related challenges, capabilities, and information requirements needed to implement the Strategy.

The Climate Science Regional Action Plans are cross-agency, coordinated efforts to increase implementation of the Climate Science Strategy in each region. The Climate Science Regional Action Plans include goals and actions to help track changing marine ecosystem conditions, assess risks, provide early warnings and longer-term projections, and evaluate management strategies under changing conditions.

Development of the Draft Climate Science Regional Action Plans for 2022-2024

In 2021 NMFS conducted an assessment of progress to implement the Climate Science Strategy during 2016-2020 including efforts under the first Climate Science Regional Action Plans. This five year Progress Report (https://spo.nmfs.noaa.gov/content/tech-memo/noaa-fisheries-climate-science-strategy-five-year-progress-report) provided information that was used in development of the draft Climate Science Regional Action Plans for 2022-2024. NOAA also considered other information in development of the draft Climate Science Regional Action Plans including public input on how to increase the resilience of fisheries and protected resources to climate change pursuant to Executive Order 14008 Section 216c. The draft Climate Science Regional Action Plans were developed by regional teams consisting of NMFS personnel from Science Centers and Regional Offices. The draft Climate Science Regional Action Plans build upon previous efforts and identify proposed actions over the next 3 years to address key climate-science needs in each region.

The goal of the draft Climate Science Regional Action Plans is to continue to increase the production, delivery and use of climate-related information needed for fisheries management and protected species conservation in each region. Each draft Climate Science Regional Action Plan identifies specific actions to implement the seven objectives of the NOAA Fisheries Climate Science Strategy. The actions address key needs in each region based on input from NMFS scientists, resource managers, stakeholders and other sources. The draft Climate Science Regional Action Plans include actions to provide decision makers with better information on what's changing, what's at risk and how different management strategies may perform under changing climate and ocean conditions.

For example, the draft Climate Science Regional Action Plans include specific actions and products such as:

• Tracking Change: Monitor and assess key indicators of ecosystem conditions to better track and provide early warnings of changing conditions.

• Forecasting conditions: Research and modeling to understand the mechanisms of change and provide near and longer term forecasts of conditions.

• Assessing Risks: Assess the vulnerability of marine resources, fisheries, fishing communities and other sectors that depend on marine resources.

• Evaluating best strategies: Identify alternative management approaches and evaluate how they may perform under changing conditions to identify best approaches for stewardship of the Nation's valuable marine resources.

Public Comments Solicited

NMFS is committed to increasing the production, delivery, and use of climate-related information to fulfill its living marine resource stewardship mandates. NMFS works with and depends on many partners to fulfill its science and information needs, including other government agencies, academia, fisheries, and other organizations. As such, NMFS is providing this opportunity for broad public review and comment on the draft Climate Science Regional Action Plans from the Northeast, Southeast, Pacific Islands, West Coast and Alaska Regions. These draft Climate Science Regional Action Plans will guide efforts to provide decision-makers with timely, actionable information to help reduce impacts and increase resilience of living marine resources and the many people, businesses and communities that depend on them.

Public comments are invited to help clarify and strengthen the draft Climate Science Regional Action Plans. Comments are invited on: (a) The clarity of the goals and activities in the draft Plans, (b) how to strengthen the draft Plans and activities; (c) what additional goals or activities need to be addressed. Comments submitted in response to this notice will be provided to the Regional Action Plan Teams for consideration in development of the final Plans.

Authority: 16 U.S.C. 1881c, Fisheries Research Section 404 (a) and Executive Order 14008, Section 216 (c).

Dated: April 14, 2022.
Evan Howell,
Director, Office of Science and Technology, National Marine Fisheries Service (NMFS).

[FR Doc. 2022-08483 Filed 4-21-22; 8:45 am]

BILLING CODE 3510-22-P